DEPARTMENT OF HOMELAND SECURITY

Federal Emergency Management Agency

44 CFR Part 65

Changes in Flood Elevation Determinations

AGENCY: Federal Emergency Management Agency, Emergency Preparedness and Response Directorate, Department of Homeland Security.

ACTION: Final rule.

SUMMARY: Modified Base (1% annual-chance) Flood Elevations (BFEs) are finalized for the communities listed below. These modified elevations will be used to calculate flood insurance premium rates for new buildings and their contents.

DATES: The effective dates for these modified BFEs are indicated on the table below and revise the Flood Insurance Rate Maps (FIRMs) in effect for the listed communities prior to this date.

ADDRESSES: The modified BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

The modified BFEs are not listed for each community in this notice. However, this rule includes the address of the Chief Executive Officer of the community where the modified BFE determinations are available for inspection.

The modifications are made pursuant to Section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings.

The changes in BFEs are in accordance with 44 CFR 65.4.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and names of newspaper where notice was published | Chief executive officer of community | Effective date of modification | Community No.
Illinois:
Kane (Case No. 04-05-2895P) (FEMA Docket No. P-7642) | City of Aurora | November 10, 2004, November 17, 2004, Kane County Chronicle | The Honorable David L. Stover, Mayor, City of Aurora, 44 East Downer Place, Aurora, IL 60507 | February 16, 2005 | 170320
Will (Case No. 04-05-3544P) (FEMA Docket No. P-7642) | Village of Bolingbrook | January 28, 2005, February 4, 2005, The Bolingbrook Sun | The Honorable Roger C. Claar, Mayor, Village of Bolingbrook, 375 West Briarcliff Road, Bolingbrook, IL 60440 | January 13, 2005 | 170812
Cook (Case No. 03-05-3975P) (FEMA Docket No. P-7642) | Unincorporated Areas | December 2, 2004, December 9, 2004, The Chicago Tribune | The Honorable John Stroger, Jr., President, Cook County Board of Commissioners, 118 N. Clark Street, Room 537, Chicago, IL 60602 | March 10, 2005 | 170054
Will (Case No. 04-05-4065P) (FEMA Docket No. P-7642) | City of Joliet | February 3, 2005, February 10, 2005, Farmers Weekly Review | The Honorable Arthur Schultz, Mayor, City of Joliet, 150 West Jefferson Street, Joliet, IL 60432 | January 13, 2005 | 170702
Winnebago (Case No. 04-05-2896P) (FEMA Docket No. P-7642) | City of Love's Park | January 24, 2005, January 31, 2005, The Rockford Register Star | The Honorable Darryl F. Lindberg, Mayor, City of Loves Park, 100 Heart Boulevard, Loves Park, IL 61111 | January 14, 2005 | 170722
Will (Case No. 04-05-3549P) (FEMA Docket No. P-7642) | Village of Mokena | December 2, 2004, December 9, 2004, The Lincoln-Way Sun | The Honorable Robert Chiszar, Mayor, Village of Mokena, 11004 Carpenter Street, Mokena, IL 60448 | March 10, 2005 | 170705
Cook (Case No. 03-05-3975P) (FEMA Docket No. P-7642) | Village of Orland Park | December 2, 2004, December 9, 2004, The Orland Township Messenger | The Honorable Dan McLaughlin, Mayor, City of Orland Park, 14700 South Ravinia Avenue, Orland Park, IL 60462 | March 10, 2005 | 170140
Cook (Case No. 03-05-3975P) (FEMA Docket No. P-7642) | Village of Tinley Park | December 2, 2004, December 9, 2004, The Star | The Honorable Edward Zabrocki, Mayor, Village of Tinley Park, 16250 S. Oak Park Avenue, Tinley Park, IL 60477 | March 10, 2005 | 170169
Will (Case No. 04-05-3560P) (FEMA Docket No. P-7642) | Unincorporated Areas | January 5, 2005, January 12, 2005, The Herald News | The Honorable Lawrence Walsh, Will County Executive, Will County Office Building, 302 North Chicago Street, Joliet, IL 60432 | December 13, 2004 | 170695
Winnebago (Case No. 04-05-2876 (FEMA Docket No. P-7642) | Unincorporated Areas | January 24, 2005, January 31, 2005, The Rockford Register Star | Mr. Scott Christiansen, Chairman, Winnebago County Board, 404 Elm Street, Rockford, IL 61101 | January 14, 2005 | 170720
Michigan:
Macomb (Case No. 04-05-2345P) (FEMA Docket No. P-7642) | Township of Shelby | January 24, 2005, January 31, 2005, The Macomb Daily | Mr. Ralph L. Maccarone, Township Supervisor, Township of Shelby, 52700 Van Dyke Avenue, Shelby Township, MI 48316 | January 11, 2005 | 260126
Macomb (Case No. 04-05-2879P) (FEMA Docket No. P-7642) | City of Sterling Heights | January 12, 2005, January 19, 2005, Sterling Heights Sentry | The Honorable Richard J. Nottle, Mayor, City of Sterling Heights, 40555 Utica Road, Sterling Heights, MI 48311 | December 21, 2004 | 260128
Minnesota: Dakota (Case No. 04-05-2882P) (FEMA Docket No. P-7642) | City of Burnsville | December 2, 2004, December 9, 2004, Dakota County Tribune | The Honorable Elizabeth Kautz, Mayor, City of Burnsville, 100 Civic Center Parkway, Burnsville, MN 55337 | March 10, 2005 | 270102
Missouri:
Clay (Case No. 04-07-531P) (FEMA Docket No. P-7642) | Village of Claycomo | December 15, 2004, December 22, 2004, Dispatch Tribune | The Honorable Lois Anderson, Village Administrator and Floodplain Administrator, Village of Claycomo, 115 East Highway 69, Claycomo, MO 64119 | March 23, 2005 | 290089
St. Charles (Case No. 03-07-886P) (FEMA Docket No. P-7462) | City of O'Fallon | December 29, 2004, January 5, 2005, The O'Fallon Journal | The Honorable Paul F. Renaud, Mayor, City of O'Fallon, O'Fallon Municipal Centre, 100 North Main Street, O'Fallon, MO 63366 | April 6, 2005 | 290316
New Mexico: Bernalillo (Case No. 04-06-1904P) (FEMA Docket No. P-7642) | City of Albuquerque | January 21, 2005, January 28, 2005, The Albuquerque Journal | The Honorable Martin Chavez, Mayor, City of Albuquerque, City/County Building, 11th Floor, One Civic Plaza NW, Albuquerque, NM 87103 | January 12, 2005 | 350002
Ohio: Shelby (Case No. 04-05-3548P) (FEMA Docket No. P-7642) | Unincorporated Areas | December 22, 2004, December 29, 2004, The Sidney Daily News | The Honorable John D. Schmitt, Shelby County Judge, Shelby County Courthouse, P.O. Box 947, Sidney, OH 45365 | March 30, 2005 | 390503
Oklahoma:
Tulsa (Case No. 03-06-1547P) (FEMA Docket No. P-7642) | City of Owasso | December 9, 2004, December 16, 2004, Owasso Reporter | The Honorable Susan Kimball, Mayor, City of Owasso, P.O. Box 180, Owasso, OK 74055 | November 23, 2004 | 400210
Tulsa (Case No. 03-06-1547P) (FEMA Docket No. P-7642) | Unincorporated Areas | December 9, 2004, December 16, 2004, Tulsa World | The Hon. Wilbert E. Collins, Sr., Chairman, Tulsa County, Board of Commissioners, 500 South Denver, Tulsa, OK 74103 | November 23, 2004 | 400462
Texas:
Parker (Case No. 04-06-1202P) (FEMA Docket No. P-7642) | City of Aledo | December 13, 2004, December 20, 2004, The Weatherford Democrat | The Honorable Susan Langley, Mayor, City of Aledo, 100 Sanchez Trail, Aledo, TX 76008 | March 21, 2005 | 481659
Travis (Case No. 03-06-2670P) (FEMA Docket No. P-7642) | City of Austin | December 15, 2004, December 22, 2004, Austin American Statesman | The Honorable Will Wynn, Mayor, City of Austin, P.O. Box 1088, Austin, TX 78767 | March 23, 2005 | 480624
Hays (Case No. 04-06-1001P) (FEMA Docket No. P-7642) | City of Buda | January 6, 2005, January 13, 2005, The Free Press | The Honorable John Trube, Mayor, City of Buda, P.O. Box 1218, Buda, TX 78610 | April 14, 2005 | 481640
Denton (Case No. 04-06-1463P) (FEMA Docket No. P-7642) | City of Corinth | January 18, 2005, January 25, 2005, Denton Record Chronicle | The Honorable Vic Burgess, Mayor, City of Corinth, 3300 Corinth Parkway, Corinth, TX 76208 | April 26, 2005 | 481143
Tarrant (Case No. 04-06-1204P) (FEMA Docket No. P-7642) | City of Crowley | December 13, 2004, December 20, 2004, The Star Telegram | The Honorable Billy Davis, Mayor, City of Crowley, 120 North Hampton Road, Crowley, TX 76036 | March 21, 2005 | 480591
Denton (Case No. 03-06-2687P) (FEMA Docket No. P-7642) | City of The Colony | January 26, 2005, February 2, 2005, The Colony Courier Leader | The Honorable John Dillard, Mayor, City of The Colony, City Hall 6800 Main Street, The Colony, TX 75056 | February 14, 2005 | 481581
Dallas (Case No. 04-06-867P) (FEMA Docket No. P-7642) | City of Dallas | December 22, 2004, December 29, 2004, Dallas Morning News | The Honorable Laura Miller, Mayor, City of Dallas, Dallas City Hall, 1500 Marilla Street, Room 5EN, Dallas, TX 75201-6390 | March 30, 2005 | 480171
Fort Bend (Case No. 04-06-2152P) (FEMA Docket No. P-7642) | Unincorporated Areas | January 26, 2005, February 2, 2005, Fort Bend Star | The Honorable Robert E. Hebert, Judge, Fort Bend County, 301 Jackson Street, Suite 719, Richmond, TX 77469 | January 14, 2005 | 480228
Tarrant (Case No. 04-06-1204P) (FEMA Docket No. P-7642) | City of Fort Worth | December 13, 2004, December 20, 2004, The Star Telegram | The Honorable Michael Moncrief, Mayor, City of Fort Worth, 1000 Throckmorton Street, Fort Worth, TX 76102 | March 21, 2005 | 480596
Hays (Case No. 04-06-1001P) (FEMA Docket No. P-7642) | Unincorporated Areas | January 6, 2005, January 13, 2005, The Free Press | The Honorable Jim Powers, Judge, Hays County, 111 E. San Antonio Street, Suite 300, San Marcos, TX 78666 | April 14, 2005 | 480321
Tarrant (Case No. 03-05-1850P) (FEMA Docket No. P-7640) | City of Hurst | October 1, 2004, October 8, 2004, The Star Telegram | The Honorable Richard Ward, Mayor, City of Hurst, 1505 Precinct Line Road, Hurst, TX 76054 | October 7, 2004 | 480601
Fort Bend Harris and Waller (Case No. 04-06-2152P) (FEMA Docket No. P-7642) | City of Katy | January 26, 2005, February 2, 2005, The Katy Times | The Honorable Doyle Callender, Mayor, City of Katy, 910 Avenue C, Katy, TX 77493 | January 14, 2005 | 480301
Parker (Case No. 04-06-1202P) (FEMA Docket No. P-7642) | Unincorporated Areas | December 13, 2004, December 20, 2004, The Weatherford Democrat | The Honorable Mark Riley, Judge, Parker County, 1 Courthouse Square, Weatherford, TX 76086 | March 21, 2005 | 480520
Waller (Case No. 04-06-2152P) (FEMA Docket No. P-7642) | Unincorporated Areas | January 27, 2005, February 3, 2005, Waller County News Citizen | The Honorable Owen Ralston, Judge, Waller County, 836 Austin Street, Room 203, Hempstead, TX 77445 | January 14, 2005 | 480460

(Catalog of Federal Domestic Assistance No. 83.100, “Flood Insurance.”)

Dated: July 7, 2005.
David I. Maurstad,
Acting Director, Mitigation Division, Emergency Preparedness and Response Directorate.

[FR Doc. 05-13931 Filed 7-14-05; 8:45 am]

BILLING CODE 9110-12-P